NATIONAL SCIENCE FOUNDATION

Advisory Committee for Engineering; Notice of Meeting; Correction

Correction: The National Science Foundation published a document in the Federal Register of October 1, 2002 on page 61670, 2nd column concerning the notice of meeting for advisory committee #1170. The subject heading and name of the committee should read “Advisory Committee for Engineering.” Below is the corrected notice.

In accordance with the Federal Advisory Committee Act (Pub. L. 92-463, as amended) the National Science Foundation announces the following meeting.

Name and Committee Code: Advisory Committee for Engineering (#1170).

Date and time: October 17, 2002/8:30 a.m.-5 p.m.; October 18, 2002/8:30 a.m.-12 p.m.

Place: National Science Foundation, 4201 Wilson Boulevard, Arlington, VA 22230, Stafford II, Room 555.

Type of Meeting: Open.

Contact Person: Dr. Elbert L. Marsh, Deputy Assistance Director for Engineering, National Science Foundation, Suite 505, 4201 Wilson Boulevard, Arlington, VA 22230; Telephone: (703) 292-4609. If you are attending the meeting and need access to the NSF building, please contact Maxine Byrd at 703-292-4601 or at mbyrd@nsf.gov so that your name can be added to the building access list.

Minutes: May be obtained from the contact person listed above.

Purpose of Meeting: To provide advice, recommendations and counsel on major goals and policies pertaining to Engineering programs and activities.

Agenda: The principal focus of the forthcoming meeting will be on strategic issues, both for the Directorate and the Foundation as a whole. The Committee will also address matters relating to the future of the engineering profession, and engineering education.

Dated: October 1, 2002
Susanne Bolton,
Committee Management Officer.

[FR Doc. 02-25502 Filed 10-07-02; 8:45 am]

BILLING CODE 7555-01-M